DEPARTMENT OF DEFENSE

GENERAL SERVICES ADMINISTRATION

NATIONAL AERONAUTICS AND SPACE ADMINISTRATION

48 CFR Part 46

Quality Assurance

CFR Correction

In Title 48 of the Code of Federal Regulations, Chapter 1, Parts 1 to 51, revised as of October 1, 2014, on page 952, remove section 46.806.

[FR Doc. 2015-20995 Filed 8-24-15; 8:45 am]

BILLING CODE 1505-01-D